DEPARTMENT OF ENERGY

Federal Energy Regulatory Commission

Combined Notice of Filings #2

Take notice that the Commission received the following electric rate filings:

Docket Numbers: ER10-2719-009; ER10-2718-009; ER10-2578-011; ER10-2633-009; ER10-2570-009; ER10-2717-009; ER10-3140-008.

Applicants: Cogen Technologies Linden Venture, L.P., East Coast Power Linden Holding, L.L.C., Fox Energy Company LLC, Birchwood Power Partners, L.P., Shady Hills Power Company, L.L.C.,EFS Parlin Holdings, L.L.C., Inland Empire Energy Center, LLC.

Description: Notice of Non-Material Change in Status of East Coast Power Linden Holding, L.L.C., et al.

Filed Date: 9/17/12.

Accession Number: 20120917-5053.

Comments Due: 5 p.m. ET 10/9/12.

Docket Numbers: ER12-2123-001.

Applicants: Midwest Independent Transmission System Operator, Inc., ITC Midwest LLC.

Description: SA 2452 ITCM-NMEPC-AEC-IPL Compliance to be effective 8/30/2012.

Filed Date: 9/17/12.

Accession Number: 20120917-5023.

Comments Due: 5 p.m. ET 10/9/12.

Docket Numbers: ER12-2634-000.

Applicants: California Independent System Operator Corporation.

Description: 2012-09-17 CAISO Regulatory Must-Take Generation Amendment Filing to be effective 12/12/2012.

Filed Date: 9/17/12.

Accession Number: 20120917-5001.

Comments Due: 5 p.m. ET 10/9/12.

Docket Numbers: ER12-2635-000.

Applicants: Midwest Independent Transmission System Operator, Inc.

Description: SA 2426 MDU-Thunder Spirit Wind G752 to be effective 9/18/2012.

Filed Date: 9/17/12.

Accession Number: 20120917-5031.

Comments Due: 5 p.m. ET 10/9/12.

Docket Numbers: ER12-2636-000.

Applicants: Imperial Valley Solar 1, LLC.

Description: Imperial Valley Solar 1, LLC submits tariff filing per 35.12: LGIA Co-Tenancy Agreement to be effective 11/16/2012.

Filed Date: 9/17/12.

Accession Number: 20120917-5062.

Comments Due: 5 p.m. ET 10/9/12.

Docket Numbers: ER12-2637-000.

Applicants: Commonwealth Edison Company.

Description: Commonwealth Edison Company Notice of Cancellation of Original Service Agreement No. C1052.

Filed Date: 9/17/12.

Accession Number: 20120917-5065.

Comments Due: 5 p.m. ET 10/9/12.

Docket Numbers: ER12-2638-000.

Applicants: Commonwealth Edison Company.

Description: Commonwealth Edison Company, Notice of Cancellation of Original Service Agreement No. C1050.

Filed Date: 9/17/12.

Accession Number: 20120917-5076.

Comments Due: 5 p.m. ET 10/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2012.
Nathaniel J. Davis, Sr.,
Deputy Secretary.

[FR Doc. 2012-23527 Filed 9-24-12; 8:45 am]

BILLING CODE 6717-01-P